NATIONAL SCIENCE FOUNDATION

Notice of Permit Applications Received Under the Antarctic Conservation Act of 1978

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 31, 2013. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Adrian Dahood, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

1. Applicant

Andrew Klein, Department of Geography, Texas A&M University, College Station, Texas.

Permit Application: 2014-021.

Activity for Which Permit is Requested: ASPA; Due to change in scope of the research, Andrew Klein has withdrawn his application for ACA permit 2014-012 and replaced it with this application which better describes his field work.

This permit would allow entry to a number of ASPAs in the vicinities of McMurdo Station and Palmer Station for the purpose of collecting soil and marine sediment samples. The samples would be taken as part of the ongoing effort to monitor the spatial scale of human impacts in Antarctica. Samples taken near Palmer Station will be compared with those taken during the Bahia Pariso spill, which occurred near Palmer Station in 1989. Sampling sites would be situated to avoid disturbing native birds and mammals.

The applicants request entry to the Barwick and Balham Valleys (ASPA 123) to collect surface soil samples for geochemical analysis. This effort would support the ASPA's values to be protected by providing baseline measurements on the level and extent of human contamination in areas of known human disturbance. This baseline is critical for future scientific work in the Dry Valleys which may use the site for comparisons to other Dry Valley sites which are more routinely used for scientific research. Without accurate baseline data such future studies could incorrectly assume the area is pristine. The work falls within what is allowed by the current management plan as “Essential management activities, including monitoring and inspection” as described in section 7(iii) of the ASPA's management plan.

Location: ASPA 113 Litchfield Island; ASPA 116 New College Valley; ASPA 123 Barwick and Balham Valleys ASPA 124 Cape Crozier; ASPA 131 Canada Glacier; ASPA 138 Linnaeus Terrace ASPA 139 Biscoe Point; ASPA 155 Cape Evans; ASPA 157 Backdoor Bay; ASPA 158 Hut Point; ASPA 172 Lower Taylor Glacier and Blood Falls; ASMA 2 McMurdo Dry Valleys; ASMA 7 Southwest Anvers Island and Palmer Basin.

Dates: November 12, 2013 to April 30, 2017.

Nadene G. Kennedy,
Polar Coordination Specialist, Division of Polar Programs.

[FR Doc. 2013-23892 Filed 9-30-13; 8:45 am]

BILLING CODE 7555-01-P